DEPARTMENT OF THE INTERIOR

National Park Service

Utah Museum of Natural History, Environmental Impact Statement, University of Utah and National Park Service and as Joint Lead Agencies, Salt Lake County, UT

AGENCY: The University of Utah and National Park Service, Interior.

ACTION: Notice of intent to prepare an Environmental Impact Statement (EIS) for the construction and operation of a proposed new Utah Museum of Natural History at the University of Utah.

SUMMARY: Pursuant to the National Environmental Policy Act of 1969, 42 U.S.C. 4332 (C) and (D) (NEPA), the University of Utah and the National Park Service as Joint Lead Agencies, are preparing an Environmental Impact Statement (EIS) on the construction and operation of a proposed new Utah Museum of Natural History museum facility at the University of Utah, Salt Lake County, Utah.

The NEPA process is being followed because federal funds, as grants through the National Park Service, are contributing to the design and construction costs of the new museum facility. The EIS will identify potential environmental effects of construction and operation of the proposed 169,000 square foot museum building, parking, and related appurtenances and mitigation measures to minimize adverse environmental impacts on the 17-acre site provided to the Museum by the University of Utah. This site is near the University of Utah's Research Park, south of Red Butte Gardens and Arboretum in Salt Lake County, Utah.

The Utah Public Lands Artifact Preservation Act, Pub. L. 107-329, enacted in 2002, authorizes the Secretary of the Interior to make a grant to the University of Utah to pay the Federal share of the costs of construction of a new facility including design, planning, furnishing, and equipping of the Museum. Seventy-five percent of the Museum's collection is material recovered from federally managed public lands including lands administered by the National Park Service. In January 2005, the Museum initiated an Environmental Assessment on the proposed project. After completion of public scoping and the identification of issues, the agencies decided to prepare an EIS.

The EIS will analyze the proposed action, a no action alternative, alternative approaches to site and facilities design and placement, and other reasonable alternatives, if any, identified during the NEPA process. The EIS will also consider mitigation measures to minimize potential adverse environmental effects. Based on current information it is not expected that the EIS alternatives will include alternative sites for the museum facility, for several reasons. (1) The University of Utah and the Museum concluded a site selection process in 1995, and in 1997 the University of Utah Board of Trustees reserved the Research Park site for use by the Museum. Since that time considerable resources have been devoted to site planning, and substantial private, state and federal financial commitments have been received for design, construction and operation of a museum on the designated site. It would not be practical or economically feasible for the Museum to abandon this site for an alternative location. (2) Congress, in enacting the 2002 Utah Public Lands Artifact Preservation Act and in making subsequent appropriations, contemplated that the new museum would be located at the 17-acre Research Park site and it authorized and has since appropriated funding for a facility at that site. (3) If the new museum were built at an alternative location, the Research Park site would nonetheless still be developed, meaning that there would not likely be a decrease in overall impacts.

Issues that were identified by the public during scoping for the EA and that will be addressed in the EIS include: vegetation and wildlife; recreation and trail use; open space, visual quality and aesthetics; traffic, transportation and parking; socioeconomics/cultural; air quality; soils, geological and seismic concerns; surface and groundwater quality and management; consideration of alternative sites; hazardous materials; and archaeological, cultural, historic and paleontological resources. Scoping for the EA was conducted February 15 through March 16, 2005 with a scoping meeting on March 8. The meeting was widely publicized and was attended by over 90 members of the public. Approximately 350 comments were received by letter or email. A scoping brochure has been prepared that details the issues identified to date. Copies of the brochure may be obtained from the project's NEPA contractor, Bear West, 145 South 400 East, Salt Lake City, Utah 84111, phone (801) 355-8816. The scoping brochure along with a request for any additional scoping comments is being mailed to the project mailing list including those who attended the initial scoping meeting or submitted written comments. One or more workshops, open houses or similar meetings may be conducted during preparation of the EIS. Because there was a well attended public meeting during scoping for the EA, no additional public meetings are planned as part of the EIS scoping process.

For questions regarding the proposed action, contact Utah Museum of Natural History, Sarah George, Director, 1390 E. Presidents Circle, University of Utah, Salt Lake City, Utah 84112-0050. For questions regarding NEPA compliance, contact National Park Service, Cordell Roy, Utah State Coordinator, 324 South State Street, Suite 200, Box 30, Salt Lake City, UT 84111.

DATES: Comments from the public will be accepted through October 11, 2005. Any comments received during that time will be reviewed and, if appropriate, a supplemental scoping brochure will be prepared. Comments received after the close of formal scoping will continue to be accepted and considered. It is anticipated that a Draft EIS will be available for public review in early 2006 and the Final EIS will be completed in the summer 2006.

FOR FURTHER INFORMATION CONTACT: Ralph Becker, Bear West, 145 South 400 East, Salt Lake City, Utah 84111 (801-355-8816), or e-mail to rbecker@bearwest.com.

SUPPLEMENTARY INFORMATION: If you wish to comment on the scoping brochure or on any other issues associated with the proposed project, you may submit your comments by mail to UMNH EIS, c/o Bear West, 145 South 400 East, Salt Lake City, Utah 84111 or via the internet to bcall@bearwest.com. Please include in any internet comments your name and return address for the project mailing list. If you do not receive a confirmation of receipt of your email message, contact Bear West directly at (801) 355-8816. Comments, including names and home addresses of respondents will be available for public review. Individual respondents may request that we withhold their home address from the record, which will be honored to the maximum extent allowable by law. There also may be circumstances in which we would withhold from the record a respondent's identity, as allowable by law. If you wish to have your address withheld, you must state this prominently at the beginning of your comment. All submissions from organizations or businesses, and from individuals identifying themselves as representatives or officials of organizations or businesses, will be made available for public inspection in their entirety.

Dated: August 2, 2005.
Kate Cannon,
Acting Deputy Director, Intermountain Region, National Park Service.

[FR Doc. 05-17853 Filed 9-8-05; 8:45 am]

BILLING CODE 4312-52-P